DEPARTMENT OF TRANSPORTATION

Federal Aviation Administration

14 CFR Part 39

[Docket No. 2002-NM-50-AD; Amendment 39-13289; AD 2003-17-14]

RIN 2120-AA64

Airworthiness Directives; Airbus Model A300 B2 and B4; A300 B4-600, A300 B4-600R, and A300 F4-600R (Collectively Called A300-600); A310; A319; A320; A321; A330; and A340 Series Airplanes; Equipped With PPG Aerospace Windshields

AGENCY: Federal Aviation Administration, DOT.

ACTION: Final rule.

SUMMARY: This amendment adopts a new airworthiness directive (AD), applicable to certain Airbus Model A300 B2 and B4; A300 B4-600, A300 B4-600R, and A300 F4-600R (collectively called A300-600); A310; A319; A320; A321; A330; and A340 series airplanes; equipped with certain PPG Aerospace windshields. This AD requires replacement of certain windshields manufactured by PPG Aerospace with new windshields. This action is necessary to prevent failure of both structural plies of the windshield caused by overheating of the power lead wire, which could cause reduced structural integrity of the windshield assembly, and consequent loss of the windshield during flight. This action is intended to address the identified unsafe condition.

DATES: Effective October 7, 2003.

The incorporation by reference of certain publications listed in the regulations is approved by the Director of the Federal Register as of October 7, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Airbus Model A300 B2 and B4; A300 B4-600, A300 B4-600R, and A300 F4-600R (collectively called A300-600); A310; A319; A320; A321; A330; and A340 series airplanes; equipped with certain PPG Aerospace windshields; was published in the Federal Register on June 4, 2003 (68 FR 33416). That action proposed to require replacement of certain windshields manufactured by PPG Aerospace with new windshields.

Comments

Interested persons have been afforded an opportunity to participate in the making of this amendment. Due consideration has been given to the single comment received. The commenter concurs with the proposed AD.

Conclusion

After careful review of the available data, including the comment noted above, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 622 airplanes of U.S. registry will be affected by this AD. Currently, there are no Model A340 series airplanes on the U.S. registry.

The following table shows the estimated cost impact to do the required actions for airplanes affected by this AD. The following table also shows the estimated cost impact for Model A340 series airplanes affected by this AD, should an affected airplane be imported and placed on the U.S. Register in the future. The average labor rate is $65 per work hour, and there are 2 windshields per airplane. The estimated maximum cost for all airplanes affected by this proposed AD is $12,029,480 (assuming both windshields must be replaced on all affected airplanes); however, some warranty relief may be available.

Model | Number of U.S. registered airplanes | Work hours per windshield (estimated) | Parts cost per windshield (estimated) | Maximum Cost Per airplane (estimated)
A300 B2 and B4, A300-600, A310, A319, A320, A321, A330 | 622 | 8 | $9,150 | $19,340
A340 | 0 | 8 | 9,150 | 19,340

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-17-14 Airbus: Amendment 39-13289. Docket 2002-NM-50-AD.

Applicability: Airplanes listed in Table 1 of this AD, certificated in any category, as follows:

Table 1.—Applicability
Model | Equipped with PPG aerospace windshields having—: Part number (P/N) | Equipped with PPG aerospace windshields having—: And serial numbers (S/N) as listed in
A300 B2 and B4 series airplanes | NP-175201-1, NP-175201-2, or NP-175201-4 | Airbus All Operators Telex A300-56A0011, dated October 2, 2001.
A300 B4-600, A300 B4-600R, and A300 F4-600R (collectively called A300-600) series airplanes | NP-175201-1, NP-175201-2, or NP-175201-4 | Airbus All Operators Telex A300-600-56A6004, dated October 2, 2001.
A310 series airplanes | NP-175201-1, NP-175201-2, or NP-175201-4 | Airbus All Operators Telex A310-56A2005, dated October 2, 2001.
A319, A320, and A321 series airplanes | NP-165311-2, NP-165311-3, NP-165311-4, NP-165311-5, or NP-165311-6 | Airbus All Operators Telex A320-56A1010, Revision 01, dated October 1, 2001.
A330 series airplanes | NP-175201-1, NP-175201-2, or NP-175201-4 | Airbus All Operators Telex A330-56A3005, dated October 2, 2001.
A340 series airplanes | NP-175201-1, NP-175201-2, or NP-175201-4 | Airbus All Operators Telex A340-56A4005, dated October 2, 2001.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of both structural plies of the windshield caused by overheating of the power lead wire, which could cause reduced structural integrity of the windshield assembly, and consequent loss of the windshield during flight, accomplish the following:

Windshield Replacement

(a) Within 6 months after the effective date of this AD, replace windshields manufactured by PPG Aerospace having certain P/Ns and S/Ns listed in the applicable Airbus all operators telex (AOT) listed in Table 1 of this AD with new windshields, per the applicable Airbus AOT listed in Table 1 of this AD.

Note 2: The Airbus AOTs reference PPG Aerospace Service Bulletin NP-175201-56-001, dated September 26, 2001, as an additional source of service information for accomplishing the replacement required by this AD.

Part Installation

(b) As of the effective date of this AD, no person shall install on any airplane a windshield manufactured by PPG Aerospace having a certain P/N and S/N listed in the applicable AOT listed in Table 1 of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with the applicable Airbus all operators telex (AOT) listed in Table 2 of this AD, as shown below:

Table 2.—Airbus All Operators Telexes
Airbus all operators telex | Revision level | Date
A300-56A0011 | Original | October 2, 2001.
A300-600-56A6004 | Original | October 2, 2001.
A310-56A2005 | Original | October 2, 2001.
A320-56A1010 | 01 | October 1, 2001.
A330-56A3005 | Original | October 2, 2001.
A340-56A4005 | Original | October 2, 2001.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-606(B), dated December 12, 2001.

Effective Date

(f) This amendment becomes effective on October 7, 2003.

Issued in Renton, Washington, on August 20, 2003.
Kyle L. Olsen,
Acting Manager, Transport Airplane Directorate, Aircraft Certification Service.

[FR Doc. 03-21871 Filed 8-29-03; 8:45 am]

BILLING CODE 4910-13-P